DEPARTMENT OF COMMERCE

National Oceanic and Atmospheric Administration

15 CFR Part 922

[Docket No. 080311420-9008-02]

RIN 0648-AT17

Channel Islands National Marine Sanctuary Regulations; Notice of Effective Date

AGENCY: Office of National Marine Sanctuaries (ONMS), National Oceanic and Atmospheric Administration (NOAA), Department of Commerce (DOC).

ACTION: Notice of effective date.

SUMMARY: NOAA published a final revised management plan and revised regulations for the Channel Islands National Marine Sanctuary (CINMS) January 16, 2009 (74 FR 3216). Under the National Marine Sanctuaries Act, the final regulations automatically take effect after 45 days of continuous session of Congress beginning on January 16, 2009. The 45-day period ends on March 19, 2009. This document provides notice of the effective date, March 19, 2009.

DATES: The regulations published on January 16, 2009 (74 FR 3216) are effective on March 19, 2009.

FOR FURTHER INFORMATION CONTACT: Michael Murray, Channel Islands National Marine Sanctuary, 805-884-1464.

Dated: March 18, 2009.
William Corso,
Deputy Assistant Administrator for Ocean Services and Coastal Zone Management.

[FR Doc. E9-6266 Filed 3-19-09; 4:15 pm]

BILLING CODE 3510-NK-P